DEPARTMENT OF HOMELAND SECURITY

Coast Guard

33 CFR Part 117

[Docket No. USCG-2017-0806]

Drawbridge Operation Regulation; Southern Branch of the Elizabeth River, Chesapeake, VA

AGENCY: Coast Guard, DHS.

ACTION: Notice of deviation from drawbridge regulation.

SUMMARY: The Coast Guard has issued a temporary deviation from the operating schedule that governs the I-64 (High Rise) Bridge across the Atlantic Intracoastal Waterway, Southern Branch of the Elizabeth River, mile 7.1, at Chesapeake, VA. The deviation is necessary to facilitate routine maintenance. This deviation allows the bridge to remain in the closed-to-navigation position.

DATES: The deviation is effective from 4 a.m. through 5:30 a.m. on August 27, 2017.

ADDRESSES: The docket for this deviation, [USCG-2017-0806] is available at http://www.regulations.gov. Type the docket number in the “SEARCH” box and click “SEARCH”. Click on Open Docket Folder on the line associated with this deviation.

FOR FURTHER INFORMATION CONTACT: If you have questions on this temporary deviation, call or email Mr. Martin Bridges, Bridge Administration Branch Fifth District, Coast Guard, telephone 757-398-6422, email Martin.A.Bridges@uscg.mil.

SUPPLEMENTARY INFORMATION: The Virginia Department of Transportation, owner and operator of the I-64 (High Rise) Bridge across the Atlantic Intracoastal Waterway, Southern Branch of the Elizabeth River, mile 7.1, at Chesapeake, VA, has requested a temporary deviation from the current operating regulation set out in 33 CFR 117.997(e), to facilitate rigging equipment into the bascule pits.

Under this temporary deviation, the bridge will remain in the closed-to-navigation position from 4 a.m. through 5:30 a.m. on August 27, 2017. The drawbridge has two spans, each with double-leaf bascule draws, and both spans have a vertical clearance in the closed-to-navigation position of 65 feet above mean high water.

The Atlantic Intracoastal Waterway, Southern Branch of the Elizabeth River is used by a verity of vessels including recreational vessels, tug and barge traffic, small fishing vessels, and small commercial vessels. The Coast Guard has carefully considered the nature and volume of vessel traffic on the waterway in publishing this temporary deviation.

The channel will be closed to all traffic from 4 a.m. through 4:30 a.m. and from 5 a.m. through 5:30 a.m. on August 27, 2017. Vessels able to pass through the bridge in the closed position from 4:30 a.m. through 5 a.m. may do so. The bridge spans will not be able to open in case of an emergency and there is no immediate alternate route for vessels to pass. The Coast Guard will also inform the users of the waterway through our Local Notice and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: August 22, 2017.
Hal R. Pitts,
Bridge Program Manager, Fifth Coast Guard District.

[FR Doc. 2017-18160 Filed 8-25-17; 8:45 am]

BILLING CODE 9110-04-P